DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2005 National Census Test.

Form Number(s): Too numerous to list here.

Agency Approval Number: None.

Type of Request: New collection.

Burden: 70,000 hours.

Number of Respondents: 420,000.

Avg Hours Per Response: 10 minutes.

Needs and Uses: The U.S. Census Bureau requests authorization from the Office of Management and Budget (OMB) to conduct the 2005 National Census Test (NCT).

Census 2000 was an operational and data quality success. However, that success was achieved at great operational risk and great expense. In response to the lessons learned from Census 2000, and in striving to better meet our Nation's ever-expanding needs for social, demographic, and geographic information, the U.S. Department of Commerce and the Census Bureau have developed a multi-year effort to completely modernize and re-engineer the 2010 Census of Population and Housing.

In order to meet our constitutional and legislative mandates, we must implement a re-engineered 2010 Census that is cost-effective; improves coverage; and reduces operational risk. Achieving this strategic goal requires an iterative series of tests to provide an opportunity to evaluate new or improved question wording, methodology, technology, and questionnaire design. The 2005 NCT, which is part of the test cycle leading up to the 2010 Census, is one of a series of tests that has been planned to allow us to finalize content, methodology, and operational procedures in time to conduct a Dress Rehearsal in 2008.

The 2005 NCT is a mailout/mailback test designed to evaluate variations of questionnaire content and methodology. In conjunction with the results of cognitive tests and focus groups, the 2003 National Census Test, and the 2004 Census Test, results from the 2005 NCT and the 2006 Census Test will help us develop the optimal questionnaire and mailing strategy for the 2010 Census. Although the 2005 NCT does not include a nonresponse followup (field) component, it will include a telephone coverage followup component.

Affected Public: Individuals or households.

Frequency: One time.

Respondent's Obligation: Mandatory.

Legal Authority: Title 13, U.S.C., Sections 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: March 22, 2005.
Madeleine Clayton,
Management Analyst, Office of the Chief Information Officer.

[FR Doc. 05-5987 Filed 3-25-05; 8:45 am]

BILLING CODE 3510-07-P